DEPARTMENT OF TRANSPORTATION

Federal Aviation Administration

14 CFR Part 39

[Docket No. FAA-2013-0096; Directorate Identifier 2012-NM-143-AD; Amendment 39-17566; AD 2013-17-02]

RIN 2120-AA64

Airworthiness Directives; Airbus Airplanes

AGENCY: Federal Aviation Administration (FAA), Department of Transportation (DOT).

ACTION: Final rule.

SUMMARY: We are adopting a new airworthiness directive (AD) for certain Airbus Model A318-112, A319-111, A319-112, A319-115, A319-132, and A319-133 airplanes. This AD was prompted by a report that a fastener, which connects the cargo door keel beam foot to the circumferential butt-strap and the section 13-14 lower shell panel, was not installed on airplanes during production. This AD requires inspecting forward fuselage frame 24, stringer 39, right hand, to determine if the fastener is missing; measuring the hole dimensions of the five holes surrounding the missing fastener if necessary; and doing related investigative and corrective actions if necessary. We are issuing this AD to detect and correct the missing fastener, which could result in reduced structural integrity of the airplane.

DATES: This AD becomes effective January 6, 2014.

The Director of the Federal Register approved the incorporation by reference of a certain publication listed in this AD as of January 6, 2014.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Discussion

We issued a notice of proposed rulemaking (NPRM) to amend 14 CFR part 39 by adding an AD that would apply to the specified products. The NPRM was published in the Federal Register on March 4, 2013 (78 FR 14029). The NPRM proposed to correct an unsafe condition for the specified products.

The European Aviation Safety Agency (EASA), which is the Technical Agent for the Member States of the European Community, has issued Airworthiness Directive 2012-0132, dated July 19, 2012 (referred to after this as the Mandatory Continuing Airworthiness Information, or “the MCAI”), to correct an unsafe condition for the specified products. The MCAI states:

During a ground inspection of an A319 aeroplane in production, it was discovered that one fastener was missing at stringer (STGR) 39 on the right-hand (RH) side of FR [forward fuselage frame] 24 (Section 13-14 side). The hole of the missing fastener was not drilled. The missing fastener, a 4.8 mm [millimeter] diameter titanium bolt, Part Number (P/N) EN 6114 V3-7, should connect the cargo door keel beam foot to the circumferential butt-strap and the section 13-14 lower shell panel. Further investigations have revealed that the affected fastener has not been installed on a limited number of aeroplanes in production, due to incorrect production instructions.

This condition, if not corrected, could impair the structural integrity of the affected aeroplanes.

* * * * *

The required actions include doing a detailed inspection to determine if the fastener is missing, measuring the hole dimensions of the five holes surrounding the missing fastener if necessary, and doing related investigative and corrective actions if necessary. The related investigative actions include a rototest inspection of the five holes for cracking. The corrective actions include repairing any holes with diameter values that exceed the specified dimensions, repairing any cracking found, and installing new fasteners. You may obtain further information by examining the MCAI in the AD docket on the Internet at http://www.regulations.gov/#!documentDetail;D=FAA-2013-0096-0002.

Comments

We gave the public the opportunity to participate in developing this AD. We have considered the comments received.

Request To Refer to Revised EASA AD

Airbus requested that paragraph (j) of the NPRM (78 FR 14029, March 4, 2013) be revised to refer to revised EASA AD 2012-0132R1, dated March 1, 2013 (http://ad.easa.europa.eu/blob/easa_ad_2012_0132_R1.pdf).

We do not agree with the commenter's request. EASA AD 2012-0132R1, dated March 1, 2013, was revised to clarify the configurations of the Airbus Model A318 and A319 airplanes included in table 1 of EASA AD 2012-0132R1, dated March 1, 2013. The clarifying text that EASA included in EASA AD 2012-0132R1, dated March 1, 2013, was designated in the NPRM (78 FR 14029, March 4, 2013) as “Table 1 to Paragraphs (g) and (h) of this AD.”

We have re-designated the material in table 1 to paragraphs (g) and (h) of the NPRM (78 FR 14029, March 4, 2013) as paragraphs (g)(1), (g)(2), and (g)(3) in this final rule. This change does not affect the intent of this AD. In addition, we revised references to “Table 1 to Paragraphs (g) and (h) of this AD” that appeared in paragraphs (g) and (h) of the NPRM to instead refer to paragraphs (g)(1), (g)(2), and (g)(3) of this AD. No change was made to this final rule with respect to the commenter's request to revise paragraph (j) of this final rule.

Request To Allow Credit for Actions Previously Accomplished Using Previous Revisions of the Service Information

Airbus requested that table 1 to paragraphs (g) and (h) of the NPRM (78 FR 14029, March 4, 2013) be revised to provide credit for actions that are accomplished before the effective date of this AD using Airbus Service Bulletin A320-00-1219 dated November 9, 2010; Revision 01, dated December 8, 2010; Revision 02, dated September 6, 2011; or Revision 03, dated March 28, 2012.

We do not agree with the commenter's request. As stated previously, the material in table 1 to paragraphs (g) and (h) of the NPRM (78 FR 14029, March 4, 2013) has been re-designated as paragraphs (g)(1), (g)(2), and (g)(3) of this final rule. Those paragraphs do not mandate accomplishing any actions using Airbus Service Bulletin A320-00-1219. That service information is only referenced to provide guidance to operators regarding certain configurations of Model A318 and A319 airplanes. No change was made to this final rule with regard to the commenter's request.

Request To Revise Airbus Contact Information

Airbus requested that we revise the contact information for the Airbus office of airworthiness from EAS to EIAS.

We agree with the request and have included the revised contact information in paragraph (k)(3) of this final rule.

Conclusion

We reviewed the available data, including the comments received, and determined that air safety and the public interest require adopting this AD with the changes described previously and minor editorial changes. We have determined that these changes:

• Are consistent with the intent that was proposed in the NPRM (78 FR 14029, March 4, 2013) for correcting the unsafe condition; and

• Do not add any additional burden upon the public than was already proposed in the NPRM (78 FR 14029, March 4, 2013).

Costs of Compliance

We estimate that this AD affects about 3 products of U.S. registry. We also estimate that it takes about 26 work hours per product to comply with the basic requirements of this AD. The average labor rate is $85 per work hour. Required parts cost $1,904 per product. Where the service information lists required parts costs that are covered under warranty, we have assumed that there will be no charge for these parts. As we do not control warranty coverage for affected parties, some parties may incur costs higher than estimated here. Based on these figures, we estimate the cost of this AD on U.S. operators to be up to $12,342, or $4,114 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov/#!docketDetail;D=FAA-2013-0096; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-17-02 Airbus: Amendment 39-17566. Docket No. FAA-2013-0096; Directorate Identifier 2012-NM-143-AD.

(a) Effective Date

This airworthiness directive (AD) becomes effective January 6, 2014.

(b) Affected ADs

None.

(c) Applicability

This AD applies to Airbus Model A318-112, A319-111, A319-112, A319-115, A319-132, and A319-133 airplanes; certificated in any category; manufacturer serial numbers 3983, 3985, 3998, 4000, 4004, 4007, 4018, 4020, 4029, 4036, 4038 through 4040 inclusive, 4048, 4052, 4056, 4069, 4071, 4076, 4080, 4087, 4089, 4121, 4125, 4127, 4129, 4132, 4141, 4151, 4163, 4164, 4166, 4169, 4171, 4182, 4192, 4200, 4204, 4211, 4215, 4222, 4227, 4228, 4254, 4256, 4258, 4259, 4262, 4268, 4275, 4282, 4285, 4287, 4301, 4313, 4319, 4327, 4332, and 4336.

(d) Subject

Air Transport Association (ATA) of America Code 53, Fuselage.

(e) Reason

This AD was prompted by a report that a fastener, which connects the cargo door keel beam foot to the circumferential butt-strap and the section 13-14 lower shell panel, was not installed on airplanes during production. We are issuing this AD to detect and correct the missing fastener, which could result in reduced structural integrity of the airplane.

(f) Compliance

You are responsible for having the actions required by this AD performed within the compliance times specified, unless the actions have already been done.

(g) Inspections

At the applicable time specified in paragraph (g)(1), (g)(2), or (g)(3) of this AD: Do a detailed inspection at forward fuselage frame 24, stringer 39, right hand, to determine if the fastener is missing, in accordance with the Accomplishment Instructions of Airbus Service Bulletin A320-53-1242, dated May 22, 2012.

(1) For Model A319 airplanes, except manufacturer serial numbers 4151, 4228, and 4319; and Model A318 airplanes, pre-modification 39195, and on which the actions specified in Airbus Service Bulletin A320-00-1219 have not been embodied in service: Inspect before the accumulation of 5,000 total flight cycles since first flight of the airplane, or within 4,300 flight cycles after the effective date of this AD, whichever occurs later.

(2) For Model A318 airplanes, post-modification 39195; and Model A318 airplanes on which the actions specified in Airbus Service Bulletin A320-00-1219 have been embodied in service: Inspect before the accumulation of 3,000 total flight cycles since first flight of the airplane, or within 90 days after the effective date of this AD, whichever occurs later.

(3) For Model A319 airplanes, manufacturer serial numbers 4151, 4228, and 4319 (post-modification 28238, 28162, and 28342): Inspect before the accumulation of 2,500 total flight cycles since first flight of the airplane, or within 90 days after the effective date of this AD, whichever occurs later.

(h) Measurements and Corrective Actions

If, during any inspection required by paragraph (g) of this AD, the fastener is determined to be missing, within the applicable compliance time specified in paragraph (g)(1), (g)(2), or (g)(3) of this AD: Measure the hole dimensions of the five holes surrounding the missing fastener, and do all applicable related investigative and corrective actions, in accordance with the Accomplishment Instructions of Airbus Service Bulletin A320-53-1242, dated May 22, 2012; except where the service bulletin specifies to contact Airbus, before further flight, repair using a method approved by either the Manager, International Branch, ANM-116, Transport Airplane Directorate, FAA; or the European Aviation Safety Agency (EASA) (or its delegated agent). Do all applicable related investigative and corrective actions before further flight.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to Mandatory Continuing Airworthiness Information EASA Airworthiness Directive 2012-0132, dated July 19, 2012, for related information, which can be found in the AD docket on the Internet at http://www.regulations.gov/#!documentDetail;D=FAA-2013-0096-0002.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1242, dated May 22, 2012.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 9, 2013.
Jeffrey E. Duven,
Acting Manager, Transport Airplane Directorate, Aircraft Certification Service.

[FR Doc. 2013-28170 Filed 11-29-13; 8:45 am]

BILLING CODE 4910-13-P